NUCLEAR REGULATORY COMMISSION

[Docket No. 50-213]

Connecticut Yankee Atomic Power Company, et al., Haddam Neck Plant; Receipt of Petition for Director's Decision Under 10 CFR 2.206

Notice is hereby given that by petition dated September 26, 2000, the Citizens Awareness Network (petitioner) has requested that NRC take action with regard to Connecticut Yankee Atomic Power Company (CYAPCO). The petitioner requests that the United States Nuclear Regulatory Commission (NRC): (1) Conduct a full investigation of CYAPCO's garment laundering practices and specifically of the September 20, 2000, incident at a public laundry facility; (2) revoke CYAPCO's license, or suspend it until such time that an investigation is completed and any contamination found as a result of that investigation is remediated; (3) report any violations of regulations to the Department of Justice, and; (4) conduct an informal public hearing.

As the basis for this request the petitioner states that on September 20, 2000, CYAPCO laundered bright yellow coveralls at a public laundromat in East Hampton, CT. In addition, the petitioner states that rubber boots and gloves from the Haddam Neck Plant are also washed at the laundromat on occasion. The petitioner contends that although it is not clear whether or not the garments were radioactively contaminated that the “laundering of Haddam Neck's protective garments at a public facility constitutes a serious loss of radiological control, and blatant disregard for public and worker health and safety, the environment, and NRC rules and regulations.” In support of the claim the petition cites a number of events that the petitioner believes collectively demonstrate an “inability on the licensee's part to follow NRC rules and regulations * * *.”

Based on the findings of an inspection performed by the NRC staff as a result of the petition, the staff is confident that there is not an immediate safety issue associated with this petition. Therefore, the NRC does not intend to act immediately on the petitioners' second request (suspension or revocation of the Haddam Neck Plant operating license).

This request is being treated pursuant to 10 CFR 2.206 of the Commission's regulations. The request has been referred to the Director of the Office of Nuclear Reactor Regulation. As provided by Section 2.206, appropriate action will be taken on this petition within a reasonable time.

The petition (ADAMS Accession Number ML003755400) may be examined, and/or copied for a fee, at the NRC's Public Document Room, located at One White Flint North, 11555 Rockville Pike (first floor), Rockville, Maryland, and is accessible electronically from the ADAMS Public Library component of the NRC Web site, http://www.nrc.gov (the Public Electronic Reading Room).

Dated at Rockville, Maryland, this 9th day of November 2000.
For the Nuclear Regulatory Commission.
Roy P. Zimmerman,
Acting Director, Office of Nuclear Reactor Regulation.

[FR Doc. 00-29383 Filed 11-15-00; 8:45 am]

BILLING CODE 7590-01-P